FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011700-003.

Title: Senator/CSAV Slot Charter Agreement.

Parties: Compania Sud Americana de Vapores S.A., Norasia Container Lines Limited, Senator Lines GmbH.

Synopsis: The proposed modification adds Norasia to the agreement as a charterer of slots from Senator Lines in trades between North Europe, the Far East, Central America, Mexico and U.S. Atlantic and Pacific Coasts.

Agreement No.: 011736-001.

Title: Sen/CSAV Cross Slot Charterparty Agreement on AMA/APX.

Parties: Compania Sud Americana de Vapores S.A., Norasia Container Lines Limited, Senator Lines GmbH.

Synopsis: The proposed modification adds Norasia to the agreement as a charterer of slots from Senator Lines in trades between South Europe, the Near, Middle and Far East, and Western Pacific Islands on the one hand and the U.S. Atlantic Coast.

Agreement No.: 011770.

Title: NSCSA/Oldendorff Slot Exchange Agreement.

Parties: National Shipping Company of Saudi Arabia, Oldendorff Carriers (Indotrans) Ltd.

Synopsis: The proposed agreement establishes a vessel-sharing agreement between the parties in the trade between U.S. East and Gulf Coast ports and ports in India, Pakistan, Sri Lanka and on the Arabian Gulf, the Red Sea, and the Mediterranean Sea. The parties have requested expedited review.

Agreement No.: 201100-001.

Title: Oakland/Italia Terminal Use Agreement.

Parties: Port of Oakland, Italia di Navigazione-Societa per Azione.

Synopsis: The proposed amendment permits cargo discharged from or loaded onto Medbulk Maritime Corporation vessels at the Charles P. Howard Terminal to be regarded as cargo discharged or loaded by Italia vessels. The agreement continues to run through September 30, 2004.

Agreement No.: 201123.

Title: SSA Terminals (Long Beach) Cooperative Working Agreement.

Parties: SSA Terminals, LLC, SSA Pacific Terminals, Inc., Terminal Investment Limited.

Synopsis: The proposed agreement provides for the joint ownership of SSA Terminals (Long Beach), LLC that will provide container stevedoring, terminal, and related services on A at the Port of Long Beach.

Dated: June 29, 2001.
By Order of the Federal Maritime Commission.
Bryant L. VanBrakle,
Secretary.

[FR Doc. 01-16852 Filed 7-3-01; 8:45 am]

BILLING CODE 6730-01-P